DEPARTMENT OF THE TREASURY

Bureau of Engraving and Printing

Privacy Act of 1974; Amended System of Records

AGENCY: Bureau of Engraving and Printing, Treasury.

ACTION: Notice of proposed alteration to a system of records.

SUMMARY: In accordance with the Privacy Act of 1974, as amended, the United States Department of the Treasury, Bureau of Engraving and Printing (BEP) gives notice of alterations to its Privacy Act system of records entitled “Treasury/BEP .027—Access Control and Alarm Monitoring Systems (ACAMS).”

DATES: Comments must be received no later than February 6, 2012. The proposed alterations to the system of records will become February 9, 2012 unless the BEP receives comments that would result in a contrary determination.

ADDRESSES: Comments should be sent to Office of the Chief Counsel, United States Department of the Treasury, Bureau of Engraving and Printing, 14th and C Streets SW., Washington, DC 20228, Room 419-A, Attention: Revisions to PA Systems of Records. Comments can be faxed to (202) 874-5710, or emailed to Keir.Bancroft@bep.gov. For emails, please place “Revisions to SOR” in the subject line. Comments will be made available for public inspection upon written request. The BEP will make such comments available for public inspection and copying at the above-listed location, on official business days between the hours of 9 a.m. and 5 p.m. Eastern time. Persons wishing to inspect the comments submitted must request an appointment by telephoning (202) 874-5915. All comments received, including attachments and other supporting materials, are part of the public record and subject to public disclosure. You should submit only information that you wish to make available publicly.

FOR FURTHER INFORMATION CONTACT: Keir X. Bancroft, Privacy Officer, United States Department of the Treasury, Bureau of Engraving and Printing, 14th and C Streets SW., Washington, DC 20228, by phone at (202) 874-5915, or by email at Keir.Bancroft@bep.gov.

SUPPLEMENTARY INFORMATION: On June 29, 2009, the Bureau of Engraving and Printing, a bureau within the United States Department of the Treasury, published its inventory of Privacy Act systems of records at 74 FR 31090. Included within that inventory was a system of records entitled “Treasury/BEP .027—Access Control and Alarm Monitoring Systems (ACAMS).” BEP proposes to amend that system of records by adding language under the “categories of records in the system” and “retention and disposal” sections.

Under the existing system of records, the following information is maintained concerning individuals issued “Escort Visitor” badges (including official visitors and contractors who are allowed to move within a BEP facility only with an escort): full name; date of issue; and date, time, and location of each passage through a security control point.

BEP is incorporating scanning technology in its facilities to allow for a visitor's identification (e.g., driver's license or passport) to be scanned, and for the information contained on that piece of identification to be used in generating an Escort Visitor badge. This will speed the process by which a visitor's information is entered into an Escort Visitor badge. It will also allow BEP to maintain a photograph of a visitor that is issued an Escort Visitor badge. This amendment will help BEP make full use of its scanning technology in processing Escort Visitor badges and further ensure the security of BEP facilities by capturing photographs.

BEP is amending the “categories of records in the system” by including in the information maintained for visitors issued Escort Visitor badges all data contained on their personal identification, such as photograph, date of birth, home address, driver's license number, and passport number.

BEP is also amending the “retention and disposal” parameters set forth in this system by detailing that data scanned from personal identification other than full name and photograph are disposed of immediately upon collection. The only data on an identification card that BEP uses for developing an Escort Visitor badge are the name and photograph of the visitor. BEP's scanning hardware collects that data and digitizes them for use in ACAMS. The scanning hardware, however, also collects all of the other data on the identification card. That is because the entire card is scanned, not just certain portions of the card. Depending on the type of card, the other data collected from the identification card may include date of birth, home address, driver's license number, and passport number. ACAMS only retains the name and photograph of a visitor from an identification card. The scanning hardware immediately deletes any remaining data. The update to the retention and disposal parameters reflects BEP's ability to use its electronic scanning technology to instantaneously delete information that is not necessary when creating an Escort Visitor badge.

The altered system of records report has been submitted to the Committee on Oversight and Government Reform of the House of Representatives, the Committee on Homeland Security and Governmental Affairs of the Senate and the Office of Management and Budget, pursuant to 5 U.S.C. 552a(r) and Appendix I to OMB Circular A-130, “Federal Agency Responsibilities for Maintaining Records About Individuals,” dated November 30, 2000.

For the reasons set forth in the preamble, BEP proposes to amend its system of records entitled “BEP .027—Access Control and Alarm Monitoring Systems (ACAMS),” as follows:

Treasury/BEP .027

System name:

Access Control and Alarm Monitoring Systems (ACAMS).

* * * * *

Categories of records in the system:

Description of the change: Category (C) is revised to read:

“(C) Official visitors, contractors, and others issued “Escort Visitor” badges: photograph; full name; date of birth; home address; driver's license number; passport number; date of issue; and date, time, and location of each passage through a security control point; and any additional data contained on an identification card presented when seeking an Escort Visitor badge is maintained in the BEP ACAMS.”

* * * * *

Retention and disposal:

Description of the change: Remove current entry and in its place add the following:

“The retention period is two (2) years, except that for official visitors, contractors, and others issued “Escort Visitor” badges, information other than name and photograph scanned from identification cards is disposed of immediately upon collection.”

* * * * *

Dated: December 22, 2011.
Melissa Hartman,
Deputy Assistant Secretary for Privacy, Transparency, and Records.

[FR Doc. 2011-33816 Filed 1-4-12; 8:45 am]

BILLING CODE 4810-39-P